ENVIRONMENTAL PROTECTION AGENCY

[FRL-9429-7]

Proposed CERCLA Administrative Cost Recovery Settlement Agreement; Textron Inc., Whittaker Corporation, United States Army, and United States Department of Energy

AGENCY: Environmental Protection Agency (EPA).

ACTION: Notice of proposed settlement agreement; request for public comment.

SUMMARY: In accordance with Section 122(i) of the Comprehensive Environmental Response, Compensation, and Liability Act, as amended (“CERCLA”), 42 U.S.C. 9622(i), notice is hereby given of a proposed administrative settlement for recovery of Past Response Costs and Future Response Costs, as these terms are defined in the settlement, concerning the Nuclear Metals, Inc. Superfund Site (“Site”) located at 2229 Main Street in Concord, Middlesex County, Massachusetts with Textron Inc., Whittaker Corporation, United States Army, and United States Department of Energy. The settlement requires payment of $4,115,000 in reimbursement of Past Response Costs. The settlement also requires performance of a non-time critical removal action and payment of all Future Response Costs. The settlement includes covenants pursuant to Sections 106 and 107(a) of CERCLA, 42 U.S.C. 9606 and 9607(a). For thirty (30) days following the date of publication of this notice, the Agency will receive written comments relating to the settlement for recovery of response costs (Section XV of the proposed settlement). The Agency will consider all comments received and may modify or withdraw its consent to this cost recovery settlement if comments received disclose facts or considerations which indicate that the settlement is inappropriate, improper, or inadequate. The Agency's response to any comments received will be available for public inspection at the Concord Free Public Library, 129 Main St., Concord, MA 01742 and at U.S. EPA Region 1, 5 Post Office Square, Suite 100, Boston, MA 02109-3912.

DATES: Comments must be submitted on or before August 5, 2011.

ADDRESSES: The proposed settlement is available for public inspection at U.S. EPA Region 1, OSRR Records and Information Center, 5 Post Office Square, Suite 100, Mailcode LIB01-2, Boston, MA 02109-3912, by appointment, (617) 918-1440. Comments should reference the Nuclear Metals, Inc. Superfund Site, Concord, MA and U.S. EPA Region 1 Docket No. CERCLA-01-2011-004, and should be addressed to Audrey Zucker, U.S. EPA Region 1, 5 Post Office Square, Suite 100, Mailcode OES04-2, Boston, MA 02109-3912.

FOR FURTHER INFORMATION CONTACT: A copy of the proposed settlement agreement can also be obtained from Heather Cote, U.S. EPA Region 1, 5 Post Office Square, Suite 100, Mailcode OES04-4, Boston, MA 02109-3912. Additional information on the Nuclear Metals, Inc. Superfund Site and the index to the administrative record for the non-time critical removal action can be found at http://www.epa.gov/region1/superfund/sites/nmi.

Dated: March 31, 2011.
Rich Cavagnero,
Acting Director, Office of Site Remediation & Restoration, U.S. EPA, Region 1.

[FR Doc. 2011-16934 Filed 7-5-11; 8:45 am]

BILLING CODE 6560-50-P